DEPARTMENT OF ENERGY

Federal Energy Regulatory Commission

[Project No. 2574-032—Maine]

Merimil Limited Partnership; Notice of Availability of Final Environmental Assessment

April 22, 2004.

In accordance with the National Environmental Policy Act of 1969 (NEPA) and the Federal Energy Regulatory Commission's (Commission) regulations, 18 CFR part 380 (Order No. 486, 52 FR 47897), the Office of Energy Projects has reviewed the application for license for the Lockwood Hydroelectric Project, located on the Kennebec River in Kennebec County, Maine, and prepared this final environmental assessment (FEA). The FEA contains staff's analysis of the environmental effects of the proposal and concludes that licensing the project, with additional staff-recommended measures, would not constitute a major Federal action significantly affecting the human environment.

A copy of the FEA is available for review at the Commission in the Public Reference Room, or it may be viewed on the Commission's Web site at www.ferc.gov using the “eLibrary” link. Enter the docket number, excluding the last three digits in the docket number field, to access the document. For assistance, please contact FERC Online Support at FERCOnlineSupport@ferc.gov or toll-free at (866) 208-3676, or for TTY, contact (202) 502-8659.

Magalie R. Salas,
Secretary.

[FR Doc. E4-949 Filed 4-27-04; 8:45 am]

BILLING CODE 6717-01-P